DEPARTMENT OF TRANSPORTATION

Federal Aviation Administration

14 CFR Part 39

[Docket No. FAA-2004-19564; Directorate Identifier 2004-NM-103-AD]

RIN 2120-AA64

Airworthiness Directives; Gulfstream Aerospace LP Model Galaxy and Gulfstream 200 Airplanes

AGENCY: Federal Aviation Administration (FAA), Department of Transportation (DOT).

ACTION: Proposed rule; withdrawal.

SUMMARY: The FAA withdraws a notice of proposed rulemaking (NPRM) that proposed a new airworthiness directive (AD) for certain Gulfstream Aerospace LP Model Galaxy and Gulfstream 200 airplanes. The proposed AD would have required repetitive inspections for damage of the flexible supply lines of the pilot and copilot oxygen mask boxes, and eventual replacement of the lines with new rigid tubes. Since the proposed AD was issued, we have received new data that 100% of the affected worldwide fleet has accomplished the hardware replacement in accordance with the service bulletin specified in the proposed AD. Accordingly, the proposed AD is withdrawn.

ADDRESSES: You can examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street SW., room PL-401, Washington, DC. This docket number is FAA-2004-19564; the directorate identifier for this docket is 2004-NM-103-AD.

FOR FURTHER INFORMATION CONTACT: Dan Rodina, Aerospace Engineer, International Branch, ANM-116, FAA, Transport Airplane Directorate, 1601 Lind Avenue, SW., Renton, Washington 98055-4056; telephone (425) 227-2125; fax (425) 227-1149.

SUPPLEMENTARY INFORMATION:

Discussion

We proposed to amend part 39 of the Federal Aviation Regulations (14 CFR part 39) with a notice of proposed rulemaking (NPRM) for a new AD for certain Gulfstream Aerospace LP Model Galaxy and Gulfstream 200 airplanes. That NPRM was published in the Federal Register on November 10, 2004 (69 FR 65105). The NPRM would have required repetitive inspections for damage of the flexible supply lines of the pilot and copilot oxygen mask boxes, and eventual replacement of the lines with new rigid tubes. The NPRM was prompted by a report of an oxygen leak in the cockpit mask box. The proposed actions were intended to prevent a broken oxygen supply line, which could result in oxygen being unavailable to the flightcrew.

Actions Since NPRM Was Issued

Since we issued the NPRM, we have received confirmation from the manufacturer that 100% of the affected worldwide fleet has accomplished the hardware replacement in accordance with the service bulletin specified in the NPRM.

FAA's Conclusions

Upon further consideration, we have determined that the maintenance actions have adequately addressed the safety concerns and that an AD is not required. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2004-19564, Directorate Identifier 2004-NM-103-AD, which was published in the Federal Register on November 10, 2004 (69 FR 65105).

Issued in Renton, Washington, on March 7, 2005.
Ali Bahrami,
Manager, Transport Airplane Directorate, Aircraft Certification Service.

[FR Doc. 05-5014 Filed 3-14-05; 8:45 am]

BILLING CODE 4910-13-P